DEPARTMENT OF COMMERCE

Foreign-Trade Zones Board

[Docket 25-2003]

Foreign-Trade Zone 203—Moses Lake, WA; Application for Subzone Status; Inflation Systems, Inc., Plant (Automotive Airbag Inflators and Propellant); Moses Lake, WA

An application has been submitted to the Foreign-Trade Zones Board (the Board) by the Moses Lake Public Corporation, grantee of FTZ 203, requesting special-purpose subzone status for the automotive airbag inflator and propellant manufacturing plant of Inflation Systems, Inc. (ISI) (a subsidiary of Takata Corporation, of Tokyo, Japan) located in Moses Lake, Washington. The application was submitted pursuant to the provisions of the Foreign-Trade Zones Act, as amended (19 U.S.C. 81a-81u), and the regulations of the Board (15 CFR part 400). It was formally filed on June 9, 2003.

The ISI plant (125 acres/234,000 sq. ft.) is located at 9138 Randolph Road NE in Moses Lake (Grant County), Washington. The facility (300 employees) is used to produce automotive airbag inflators and related propellant for export and the domestic market. The plant has capacity to produce about four and half million inflators and three million pounds of propellant annually. Propellants ISI manufactures include 3110, 2004, 128T classified under HTSUS 3602.00.00 (duty free). Components and chemical inputs purchased from abroad (representing between 10-72% of finished inflator and propellant value) include: bases, caps, flanges, disks, bodies, closures, and connectors classified under HTSUS 8708.99.8080, filters, strontium nitrate, 5AT, K5AT, BHT, and DNPH (duty rate range: free—6.5%).

FTZ procedures would exempt ISI from Customs duty payments on the foreign components and chemicals used in export production. On its domestic sales and exports to NAFTA countries, ISI would be able to choose the duty rates that apply to finished propellant (duty free) and airbag inflators (2.5%) for the foreign inputs noted above that have higher rates. The application indicates that subzone status would help improve the plant's international competitiveness.

In accordance with the Board's regulations, a member of the FTZ Staff has been designated examiner to investigate the application and report to the Board.

Public comment on the application is invited from interested parties. Submissions (original and three copies) shall be addressed to the Board's Executive Secretary at the following addresses:

1. Submissions via Express/Package Delivery Services: Foreign-Trade Zones Board, U.S. Department of Commerce, Franklin Court Building—Suite 4100W, 1099 14th Street, NW., Washington, DC 20005; or,

2. Submissions via the U.S. Postal Service: Foreign-Trade Zones Board, U.S. Department of Commerce, FCB—4100W, 1401 Constitution Ave., NW., Washington, DC 20230.

The closing period for their receipt is August 18, 2003. Rebuttal comments in response to material submitted during the foregoing period may be submitted during the subsequent 15-day period (to September 1, 2003).

A copy of the application will be available for public inspection at the Office of the Foreign-Trade Zones Board's Executive Secretary at address No.1 listed above and at the Bureau of Customs and Border Protection Office, Grant County International Airport, 7810 Andrews Street NE., Moses Lake, Washington 98837.

Dated: June 10, 2003.
Dennis Puccinelli,
Executive Secretary.

[FR Doc. 03-15288 Filed 6-16-03; 8:45 am]

BILLING CODE 3510-DS-P